DEPARTMENT OF HEALTH AND HUMAN SERVICES

Centers for Medicare & Medicaid Services

42 CFR Part 418

[CMS-1539-CN]

RIN 0938-AO72

Medicare Program; Hospice Wage Index for Fiscal Year 2008 Correction

AGENCY: Centers for Medicare & Medicaid Services (CMS), HHS.

ACTION: Correction of final rule.

SUMMARY: This document corrects typographical errors that appeared in the final rule published in the August 31, 2007 Federal Register entitled “Medicare Program; Hospice Wage Index for Fiscal Year 2008.”

DATES: Effective Date: These corrections are effective on October 1, 2007.

FOR FURTHER INFORMATION CONTACT: Terri Deutsch, (410) 786-9462.

SUPPLEMENTARY INFORMATION:

I. Background

In FR Doc. 07-4292 of August 31, 2007 (72 FR 50214), there were errors that are identified and corrected in “Section III Correction of Errors”. The provisions in this correction notice are effective as if they had been included in the August 31, 2007 final rule. Accordingly, these corrections are effective October 1, 2007.

II. Summary of Errors

Table A of the Addendum lists the fiscal year (FY) 2008 urban wage index values for hospice providers by Core-Based Statistical Areas (CBSA) designations. To ensure that hospice providers are able to identify their FY 2008 wage index value, table A contains the CBSA codes, CBSA county name (urban area), and CBSA wage index for urban geographic areas. However, for CBSA codes 29940 and 44140, on pages 50238 and 50245, respectively, we inaccurately specified the urban areas.

These errors do not represent a change in policy. In addition, these changes are consistent with the proposed rule (72 FR 24146 and 24162) and how the urban areas have been defined in the past.

III. Correction of Errors

FR Doc. 07-4292 of August 31, 2007 (72 FR 50214), make the following corrections:

1. On page 50238, in “TABLE A—HOSPICE WAGE INDEX FOR URBAN AREAS BY CBSA,” the urban area for CBSA code 29940 is corrected to read as follows:

CBSA code | Urban area (constituent counties or county equivalents) ² | Wage index ¹
29940 | Lawrence, KS, Douglas, KS | 0.8923

2. On page 50245, in “TABLE A—HOSPICE WAGE INDEX FOR URBAN AREAS BY CBSA,” the urban area for CBSA code 44140 is corrected to read as follows:

CBSA code | Urban area (constituent counties or county equivalents) ² | Wage index ¹
44140 | Springfield, MA, Franklin, MA, Hampden, MA, Hampshire, MA | 1.0751

IV. Waiver of Proposed Rulemaking

We ordinarily publish a notice of proposed rulemaking in the Federal Register to provide a period for public comment before the provisions of a rule take effect, in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

The revisions contained in this document merely correct typographical errors in Table A of the Addendum. These corrections are necessary to ensure that the final rule accurately reflects the correct urban areas. Since these changes do not represent any policy changes, but are merely technical in nature, we find that public comments on these revisions are unnecessary. Therefore, we find good cause to waive notice and comment procedures and the 30-days delay in effective date.

(Catalog of Federal Domestic Assistance Program No. 93.773, Medicare—Hospital Insurance; and Program No. 93.774, Medicare—Supplementary Medical Insurance Program)

Dated: September 26, 2007.
Ann C. Agnew,
Executive Secretary to the Department.

[FR Doc. 07-4851 Filed 9-28-07; 8:45 am]

BILLING CODE 4120-01-P